DEPARTMENT OF ENERGY

10 CFR Part 430

[Docket Number EERE-2014-BT-STD-0036]

RIN 1904-AD35

Energy Conservation Program for Consumer Products: Energy Conservation Standards for Hearth Products; Correction

AGENCY: Office of Energy Efficiency and Renewable Energy, Department of Energy.

ACTION: Notice of proposed rulemaking and announcement of public meeting; Correction.

SUMMARY: This document corrects the DATES section to a notice of proposed rulemaking and announcement of public meeting which published in the Federal Register on February 9, 2015, regarding Energy Conservation Program for Consumer Products: Energy Conservation Standards for Hearth Products. The day of the week for the March 23, 2015 meeting is being corrected.

DATES: February 23, 2015.

FOR FURTHER INFORMATION CONTACT: Mr. John Cymbalsky, U.S. Department of Energy, Office of Energy Efficiency and Renewable Energy, Building Technologies Office, EE-5B, 1000 Independence Avenue SW., Washington, DC 20585-0121. Telephone: (202) 287-1692. Email: john.cymbalsky@ee.doe.gov

Correction

In the Federal Register published on February 9, 2015, in FR Doc. 2015-02179, the following correction should be made:

On page 7082, the first sentence of the DATES section is corrected to read:

Meeting: DOE will hold a public meeting on Monday, March 23, 2015, from 9:00 a.m. to 4:00 p.m., in Washington, DC.

Issued in Washington, DC, on February 12, 2015.
Kathleen B. Hogan,
Deputy Assistant Secretary for Energy Efficiency, Energy Efficiency and Renewable Energy.

[FR Doc. 2015-03594 Filed 2-20-15; 8:45 am]

BILLING CODE 6450-01-P